DEPARTMENT OF THE INTERIOR

Fish and Wildlife Service

50 CFR Part 17

RIN 1018-AI44

Endangered and Threatened Wildlife and Plants; Notice of a Public Hearing for the Proposed Listing of the Southwest Alaska Distinct Population Segment of the Northern Sea Otter as Threatened

AGENCY: Fish and Wildlife Service, Interior.

ACTION: Proposed rule; announcement of public hearing.

SUMMARY: We, the U.S. Fish and Wildlife Service (Service) will hold a public hearing on the proposed listing of the Southwest Alaska Distinct Population Segment of the Northern Sea Otter (Enhydra lutris kenyoni) as threatened.

DATES: One public hearing will be held on May 19, 2004, in Kodiak, Alaska, from 7 p.m. to 10 p.m. The public is invited to participate and to provide oral testimony. The public hearing will be preceded by an informational meeting from 5 p.m. to 7 p.m. Teleconference facilities will be available for members of the public who wish to participate by teleconference.

ADDRESSES: The public hearing will be held at the Best Western Hotel, 236 Rezanof Drive, Kodiak, Alaska 99615. To participate by teleconference call toll-free 888/391-1373. The Teleconference Leader is Ms. Sue Detwiler and the Passcode is Sea Otter.

FOR FURTHER INFORMATION CONTACT: Douglas Burn, U.S. Fish and Wildlife Service, Marine Mammals Management Office, 1011 East Tudor Road, Anchorage, Alaska 99503 (telephone 907/786-3800; facsimile 907/786-3816)

SUPPLEMENTARY INFORMATION:

Public Comments Solicited

We solicit comments on our proposal to list the southwest Alaska distinct population segment (DPS) of the northern sea otter (69 FR 6600, February 11, 2004). Of particular interest to us are comments concerning:

(1) Biological, commercial trade, or any other relevant data concerning any threat (or lack thereof) to the DPS;

(2) The location of any additional populations of this DPS;

(3) The specific physical and biological features to consider, and specific areas that meet the definition of critical habitat and that should or should not be considered for critical habitat designation as provided by section 4 of the Endangered Species Act;

(4) Additional information concerning the range, distribution, and size of this DPS; and

(5) Current or planned activities in the subject area and their possible impacts on this DPS.

Background

On February 11, 2004, we published in the Federal Register (69 FR 6600) a proposed rule to list the southwest Alaska DPS of the northern sea otter as threatened under the Endangered Species Act of 1973, as amended (Act) (16 U.S.C. 1531 et seq.). The comment period for the proposed listing closes on June 10, 2004. We are announcing a public hearing to allow all interested parties to submit oral comments on the proposed rule. We are seeking comments or suggestions from the public, other concerned agencies, the scientific community, industry, or any other interested parties concerning the proposed rule. Comments already submitted on the proposed rule need not be resubmitted as they will be fully considered in our final determination.

Section 4(b)(5)(E) of the Act requires that a public hearing be held if it is requested within 45 days of the publication of a proposed rule. In response to a request from the Alaska Sea Otter and Steller Sea Lion Commission, we are holding a public hearing on the date and at the address described in the DATES and ADDRESSES section.

Anyone wishing to make an oral statement for the record is encouraged to provide a written copy of the statement and present it to us at the hearing. In the event there is a large attendance, the time allotted for oral statements may be limited. Oral and written statements receive equal consideration. There are no limits to the length of written comments presented at the hearing or mailed to us.

Persons needing reasonable accommodations in order to attend and participate in the public hearing should contact M. Ellen Baier at 907/786-3800, as soon as possible. In order to allow sufficient time to process requests, please call no later than one week before the hearing date. Information regarding our proposal is available in alternative formats upon request.

Author

The primary author of this notice is Susan Detwiler, U.S. Fish and Wildlife Service, 1011 East Tudor Road, Anchorage, Alaska 99503 (telephone 907/786-3868; facsimile 907/786-3350).

Authority: The authority for this action is the Endangered Species Act of 1973 (16 U.S.C. 1531 et seq.).

Dated: April 29, 2004.
Craig Manson,
Assistant Secretary for Fish and Wildlife and Parks.

[FR Doc. 04-10282 Filed 4-30-04; 4:48 pm]

BILLING CODE 4310-55-U